CONSUMER PRODUCT SAFETY COMMISSION

Performance Review Board Members

AGENCY: U.S. Consumer Product Safety Commission.

ACTION: Further revised; correction notice.

SUMMARY: The U.S. Consumer Product Safety Commission is hereby giving notice of the names of the members appointed to the Commission's Performance Review Board. The function of the Board is to make recommendations to the appropriate appointing authority relating to the performance of senior executives in the agency.

FOR FURTHER INFORMATION CONTACT: Margaret A. Evans, Chief Human Capital Officer, Office of the Executive Director, U.S. Consumer Product Safety Commission, 4330 East-West Highway, Bethesda, MD 20814; Phone: (301) 504-7204.

SUPPLEMENTARY INFORMATION: Sections 4314(c)(1) through (5) of title 5, U.S.C., requires each agency to establish, in accordance with regulations prescribed by the Office of Personnel Management, one or more performance review boards. The PRB shall review and evaluate the initial appraisal of a senior executive's performance by the supervisor, along with any response by the senior executive, and make recommendations to the final rating authority relative to the performance of the senior executive.

The members of the Performance Review Board are:

1. Brien A. Lorenze, Executive Director

2. Jerry D. Ray, Deputy Executive Director for Safety Operations

3. Margaret A. Evans, Deputy Executive Director for Operations Support

4. Matthew A. Campbell, General Counsel (Alternate)

5. Jennifer S. Blumenthal, Deputy Director for Office of Compliance (Alternate)

6. Bryan C. Burnett, Chief Information Officer (Alternate)

Correction

In the Federal Register of November 21, 2025, in FR Doc. 2025-20619, on page 52624, in the first column, correct the list for the members of the Performance Review Board to include “Bryan C. Burnett, Chief Information Officer”, who was inadvertently excluded from the notice.

Alberta Mills,
Secretary, Consumer Product Safety Commission.

[FR Doc. 2025-21084 Filed 11-24-25; 8:45 am]

BILLING CODE 6355-01-P